DEPARTMENT OF COMMERCE

Office of the Secretary

[Docket No. 140602474-4474-01]

Notice of an Opportunity To Apply for Membership on the National Advisory Council on Innovation and Entrepreneurship

AGENCY: Office of the Secretary, U.S. Department of Commerce.

ACTION: Notice.

SUMMARY: The Department of Commerce is currently seeking applications for membership on the National Advisory Council on Innovation and Entrepreneurship (Council). The purpose of the Council is to advise the Secretary of Commerce on matters related to accelerating innovation and entrepreneurship.

DATES: Applications must be received by the Office of Innovation and Entrepreneurship by the close of business on July 14, 2014 to be considered for membership in the initial formation of this Council. Applications received by July 14, 2014, will also be considered to fill vacancies which may occur after Council formation for a period of one year.

ADDRESSES: Please submit applications electronically to NACIE@DOC.gov, or by mail to the Office of Innovation and Entrepreneurship, Attn: Julie Lenzer Kirk, 1401 Constitution Avenue NW., 7th Floor, Washington, DC 20230. Electronic submissions are preferred.

FOR FURTHER INFORMATION CONTACT: Julie Lenzer Kirk, The Office of Innovation and Entrepreneurship, 1401 Constitution Avenue NW., 7th Floor, Washington, DC 20230; telephone at (202) 482-5338; email at NACIE@DOC.gov.

SUPPLEMENTARY INFORMATION: The Office of Innovation and Entrepreneurship is accepting applications for membership on the National Advisory Council on Innovation and Entrepreneurship (Council) for a 2-year term beginning the date of appointment. Members will be selected, in accordance with Department of Commerce guidelines, based on their ability to advise the Secretary of Commerce on matters relating to accelerating innovation and support for and expansion of entrepreneurship. This includes, but is not limited to, areas such as:

• Development of policy recommendations to support entrepreneurship and innovation across a range of business sectors;

• Insight into innovative opportunities to increase the global competitiveness of both the workforce and the economy;

• Exploration of opportunities to promote the role of employers in developing successful workforce training partnerships across multiple stakeholders;

• Encouraging creative use of technology to facilitate employee recruiting, training, career development, and business startups;

• Identify and promote best practices that accelerate the commercialization of research developments and intellectual property.

The Council will identify and recommend solutions to issues critical to driving the innovation economy, including enabling entrepreneurs and firms to successfully access and develop a skilled, globally competitive workforce. The Council will also serve as a vehicle for ongoing dialogue with the entrepreneurship and workforce development communities, including working with business and trade associations. The duties of the Council are solely advisory, and it shall report to the Secretary of Commerce through the Economic Development Administration and the Office of the Secretary.

Members of the Council shall be selected in a manner that ensures that the Council is balanced in terms of perspectives and expertise with regard to innovation, entrepreneurship, and skills training that leads to a globally competitive workforce. To that end, the Secretary seeks diversity in size of company or organization represented and seeks to appoint members who represent diverse geographic locations and innovation and entrepreneurial experience from industry, government, academia and non-governmental organizations.

Additional factors which may be considered in the selection of Council members include candidate's proven experience in designing, creating, and/or improving innovation systems, commercialization of research and development, entrepreneurship, and job-driven skills training that leads to a globally competitive workforce. Membership affiliation may include, but is not limited to, successful executive-level business leaders; entrepreneurs; innovators; post-secondary education leaders; directors of workforce and training organizations; and other experts drawn from industry, government, academia, philanthropic foundations with a demonstrated track record of research and/or support of innovation and entrepreneurship, and non-governmental organizations. Nominees will be evaluated consistent with factors specified in this notice and their ability to carry out the goals of the Council.

Self-nominations will be accepted.

Appointments will be made without regard to political affiliation.

Membership. Members shall serve at the discretion of the Secretary of Commerce. Because members will be appointed as experts, members will be considered special government employees. Members participating in Council meetings and events will be responsible for their travel, living, and other personal expenses. Meetings will be held regularly and not less than twice annually, usually in Washington, DC. Members are required to attend a majority of the Council's meetings. The first Council meeting for the new charter term has not yet been established, but is targeted for November 2014.

Eligibility. Eligibility for membership is limited to U.S. citizens who are not full-time employees of a government or foreign entity, are not registered with the Department of Justice under the Foreign Agents Registration Act, and are not a federally-registered lobbyist.

Application Procedure. For consideration, a nominee should submit: (1) A resume; (2) personal statement of interest including an outline of your abilities to advise the Secretary of Commerce on matters described above; (3) an affirmative statement that the applicant is not required to register as a foreign agent under the Foreign Agents Registration Act of 1938, as amended; and (4) an affirmative statement that the applicant is not a federally-registered lobbyist. It is preferred that applications be submitted electronically to NACIE@DOC.gov. They can also be sent to the Office of Innovation and Entrepreneurship, Attn: Julie Lenzer Kirk at 1401 Constitution Avenue NW., 7th Floor, Washington, DC 20230.

Appointments of members of the Council will be made by the Secretary of Commerce.

Dated: June 12, 2014.
Roy K.J. Williams,
Assistant Secretary for Economic Development, Economic Development Administration.

[FR Doc. 2014-14153 Filed 6-16-14; 8:45 am]

BILLING CODE 3510-WH-P